CONSUMER PRODUCT SAFETY COMMISSION

Sunshine Act Meeting Notice

TIME AND DATE: Wednesday, May 11, 2022, 10:00-11:00 a.m.

PLACE: This meeting will be held remotely.

STATUS: Commission Meeting—Open to the Public.

MATTERS TO BE CONSIDERED: Briefing Matter: FY 2022 Mid-Year Review.

All attendees should pre-register for the Commission meeting using the following link and password: https://cpsc.webex.com/cpsc/onstage/g.php?MTID=e6ebbcd99bd6215929ac3e5eb1ca20240.

Password: 0511.

After registering you will receive a confirmation email containing information about joining the meeting.

CONTACT PERSON FOR MORE INFORMATION: Alberta E. Mills, Office of the Secretary, U.S. Consumer Product Safety Commission, 4330 East-West Highway, Bethesda, MD 20814, 301-504-7479 (Office) or 240-863-8938 (Cell).

Dated: May 4, 2022.
Alberta E. Mills,
Commission Secretary.

[FR Doc. 2022-09968 Filed 5-5-22; 11:15 am]

BILLING CODE 6355-01-P